DEPARTMENT OF COMMERCE

International Trade Administration

Georgia Institute of Technology, et al. Notice of Consolidated Decision on Applications for Duty-Free Entry of Electron Microscopes

This is a decision consolidated pursuant to section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Docket Number: 05-041. Applicant: Georgia Institute of Technology, Atlanta, GA 30332. Instrument: Dual Beam Electron Microscope, Model Quanta 200 3D Nanolab. Manufacturer: FEI Company, Czech Republic. Intended Use: See notice at 70 FR 67450, November 7, 2005. Order Date: April 4, 2004.

Docket Number: 05-042. Applicant: Georgia Institute of Technology, Atlanta, GA 30332. Instrument: Electron Microscope, Model NOVA 200 3D Nanolab. Manufacturer: FEI Company, Czech Republic. Intended Use: See notice at 70 FR 67451, November 7, 2005. Order Date: April 4, 2004.

Docket Number: 05-043. Applicant: Massachusetts General Hospital, Boston, MA 02114. Instrument: Electron Microscope, Model JEM-1011. Manufacturer: JEOL, Ltd., Japan Intended Use: See notice at 70 FR 67451. Order Date: January 13, 2005.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States either at the time of order of each instrument OR at the time of receipt of application by U.S. Customs and Border Protection.

Gerald A. Zerdy,
Program Manager, Statutory Import Programs Staff.

[FR Doc. E5-7345 Filed 12-13-05; 8:45 am]

BILLING CODE 3510-DS-P